DEPARTMENT OF ENERGY

Federal Energy Regulatory Commission

Combined Notice of Filings #1

Take notice that the commission received the following accounting Request filings:

Docket Numbers: AC25-129-000.

Applicants: Dominion Energy Services, Inc.

Description: Virginia Electric and Power Company, Inc. submits supplement to the request for approval to use Account 439, to record a one-time cumulative effect adjustment, etc.

Filed Date: 2/23/26.

Accession Number: 20260223-5164.

Comment Date: 5 p.m. ET 3/2/26.

Take notice that the commission received the following exempt wholesale generator filings:

Docket Numbers: EG26-159-000.

Applicants: Bensonhurst Energy Storage 1 LLC.

Description: Bensonhurst Energy Storage 1 LLC submits Notice of Self-Certification of Exempt Wholesale Generator Status.

Filed Date: 2/23/26.

Accession Number: 20260223-5092.

Comment Date: 5 p.m. ET 3/16/26.

Docket Numbers: EG26-160-000.

Applicants: Holyoke Energy Storage 1 LLC.

Description: Holyoke Energy Storage 1 LLC submits Notice of Self-Certification of Exempt Wholesale Generator Status.

Filed Date: 2/23/26.

Accession Number: 20260223-5094.

Comment Date: 5 p.m. ET 3/16/26.

Take notice that the Commission received the following electric rate filings:

Docket Numbers: ER10-2727-015; ER10-1469-018; ER24-172-009; ER10-2728-019; ER10-1451-017; ER10-2687-017; ER10-1467-018; ER10-2688-020; ER11-3907-011.

Applicants: The Toledo Edison Company, The Potomac Edison Company, Ohio Edison Company, Monongahela Power Company, Jersey Central Power & Light, Green Valley Hydro, LLC, FirstEnergy Pennsylvania Electric Company, The Cleveland Electric Illuminating Company, Allegheny Energy Supply Company, LLC.

Description: Notice of Change in Status of Allegheny Energy Supply Company, LLC, et al.

Filed Date: 2/2/26.

Accession Number: 20260202-5297.

Comment Date: 5 p.m. ET 3/16/26.

Docket Numbers: ER20-2690-020; ER25-1527-005; ER22-2536-013; ER18-1771-029; ER25-3115-003; ER16-1872-029; ER11-4462-121; ER25-1348-009; ER16-1509-011; ER25-2253-003; ER10-1970-039; ER17-838-095; ER10-1951-098; ER10-1972-039; ER20-1220-020; ER20-1879-021; ER16-2506-031; ER18-2224-029; ER26-46-001; ER21-2100-017; ER25-3117-003; ER25-3110-003; ER21-2048-018; ER25-1317-007; ER25-1349-008; ER25-2293-004; ER25-2254-004; ER25-2505-004; ER19-2382-022; ER17-2270-030; ER25-3120-003; ER25-3116-003; ER12-1660-038; ER26-47-001; ER22-2601-013; ER25-2506-004; ER10-2078-036; ER25-1340-005.

Applicants: Wildwood Solar, LLC, White Oak Energy LLC, Weirs Creek Solar, LLC, Walleye Wind, LLC, Tuscola Wind Energy II, LLC, Tuscola Bay Wind, LLC, Tupelo Brake Solar, LLC, Three Waters Wind Farm, LLC, Stuttgart Solar, LLC, Story County Wind, LLC, St. Landry Solar, LLC, Singer Solar, LLC, Sebree Solar II, LLC, Sebree Solar, LLC, Salt Creek Wind LLC, Sac County Wind, LLC, Rock Creek Solar, LLC, Red Butte Wind, LLC, Point Beach Solar, LLC, Pheasant Run Wind Energy, LLC, Pegasus Wind, LLC, Oliver Wind III, LLC, Oliver Wind I, LLC, Oliver Wind II, LLC, NextEra Energy Point Beach, LLC, NextEra Energy Services Massachusetts, LLC, NextEra Energy Marketing, LLC, NextEra Energy Duane Arnold, LLC, Mondu Solar, LLC, New Wave Energy LLC, New Madrid Solar, LLC, NEPM II, LLC, Marshall Solar, LLC, Manila Solar, LLC, Langdon Renewables, LLC, Kossuth County Wind, LLC, Knox County Wind Farm LLC, Jordan Creek Wind Farm LLC.

Description: Notice of Change in Status of Amite Energy Storage, LLC, et al. Part 2 of 2.

Filed Date: 2/2/26.

Accession Number: 20260202-5298.

Comment Date: 5 p.m. ET 3/16/26.

Docket Numbers: ER26-862-001.

Applicants: Prospect Power, LLC.

Description: Tariff Amendment: Response to Deficiency Letter to be effective 12/23/2025.

Filed Date: 2/23/26.

Accession Number: 20260223-5106.

Comment Date: 5 p.m. ET 3/16/26.

Docket Numbers: ER26-895-000.

Applicants: Aelix LLC.

Description: Response to 12/29/2025, Deficiency Letter of Aelix LLC.

Filed Date: 2/23/26.

Accession Number: 20260223-5132.

Comment Date: 5 p.m. ET 3/16/26.

Docket Numbers: ER26-1466-000.

Applicants: Holyoke Energy Storage 1 LLC.

Description: Initial Rate Filing: Baseline new to be effective 2/21/2026.

Filed Date: 2/20/26.

Accession Number: 20260220-5253.

Comment Date: 5 p.m. ET 3/13/26.

Docket Numbers: ER26-1467-000.

Applicants: Bensonhurst Energy Storage 1 LLC.

Description: Initial Rate Filing: Baseline new to be effective 2/21/2026.

Filed Date: 2/20/26.

Accession Number: 20260220-5257.

Comment Date: 5 p.m. ET 3/13/26.

Docket Numbers: ER26-1468-000.

Applicants: Chula Vista Energy Center 2, LLC.

Description: Initial rate filing: Shared Facilities Agreement to be effective 2/1/2026.

Filed Date: 2/20/26.

Accession Number: 20260220-5264.

Comment Date: 5 p.m. ET 3/13/26.

Docket Numbers: ER26-1469-000.

Applicants: El Cajon Energy, LLC.

Description: Initial rate filing: Shared Facilities Agreement to be effective 2/1/2026.

Filed Date: 2/20/26.

Accession Number: 20260220-5266.

Comment Date: 5 p.m. ET 3/13/26.

Docket Numbers: ER26-1470-000.

Applicants: PJM Interconnection, L.L.C.

Description: § 205(d) Rate Filing: Original GIA, Service Agreement No. 7818; AE2-341/AF1-030 to be effective 4/22/2026.

Filed Date: 2/20/26.

Accession Number: 20260220-5275.

Comment Date: 5 p.m. ET 3/13/26.

Docket Numbers: ER26-1471-000.

Applicants: PJM Interconnection, L.L.C.

Description: Tariff Amendment: Notice of Cancellation of Service Agreement No. 6966; Queue No. AF2-130 to be effective 4/25/2026.

Filed Date: 2/23/26.

Accession Number: 20260223-5077.

Comment Date: 5 p.m. ET 3/16/26.

Docket Numbers: ER26-1472-000.

Applicants: PJM Interconnection, L.L.C.

Description: Tariff Amendment: Notice of Cancellation of GIA, SA No. 7612; Project Identifier No. AF2-107 to be effective 4/25/2026.

Filed Date: 2/23/26.

Accession Number: 20260223-5118.

Comment Date: 5 p.m. ET 3/16/26.

Docket Numbers: ER26-1473-000.

Applicants: Evergy Kansas Central, Inc.

Description: § 205(d) Rate Filing: McPherson FERC Order 898 Filing to be effective 1/1/2025.

Filed Date: 2/23/26.

Accession Number: 20260223-5129.

Comment Date: 5 p.m. ET 3/16/26.

Docket Numbers: ER26-1474-000.

Applicants: PJM Interconnection, L.L.C.

Description: Tariff Amendment: Notice of Cancellation of Service Agreement No. 7023; Queue No. AF2-092 to be effective 4/25/2026.

Filed Date: 2/23/26.

Accession Number: 20260223-5143.

Comment Date: 5 p.m. ET 3/16/26.

Take notice that the Commission received the following foreign utility company status filings:

Docket Numbers: FC26-13-000.

Applicants: Arlen Energy Storage 1 LP, Vaughn 3 Energy Storage 1 LP, Vaughn 1E Energy Storage 1 LP.

Description: Arlen Energy Storage 1 LP et al. submit Notice of Self-Certification of Foreign Utility Company Status.

Filed Date: 2/23/26.

Accession Number: 20260223-5147.

Comment Date: 5 p.m. ET 3/16/26.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: February 23, 2026.
Carlos D. Clay,
Deputy Secretary.

[FR Doc. 2026-03858 Filed 2-25-26; 8:45 am]

BILLING CODE 6717-01-P